DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Secrecy and License to Export.

Form Number(s): None.

Agency Approval Number: 0651-0034.

Type of Request: Extension of a currently approved collection.

Burden: 1,538 hours annually.

Number of Respondents: 1,794 responses per year.

Avg. Hours Per Response: The USPTO estimates that it will take the public between 30 minutes (0.5 hours) and 4 hours, depending upon the complexity of the situation, to gather the necessary information, prepare, and submit the requirements in this collection.

Needs and Uses: This information is required by 35 U.S.C. 181-188 and administered by the USPTO through 37 CFR 5.1-5.33 and 1.17. This collection includes the information needed by the USPTO to review and issue or revoke the various types of petitions regarding secrecy orders and foreign filing licenses. Response to this information collection is necessary to obtain a permit to disclose, modify or rescind a secrecy order; to obtain general or group permits; to obtain foreign filing and retroactive licenses; or to change the scope of a license.

Affected Public: Individuals or households; businesses or other for-profits; not-for-profit institutions.

Frequency: On occasion.

Respondent's Obligation: Required to obtain or retain benefits.

OMB Desk Officer: Nicholas A. Fraser, e-mail: Nicholas_A_Fraser@omb.eop.gov.

Once submitted, the request will be publicly available in electronic format through the Information Collection Review page at http://www.reginfo.gov.

Paper copies can be obtained by:

• E-mail: InformationCollection@uspto.gov. Include “0651-0034 copy request” in the subject line of the message.

• Fax: 571-273-0112, marked to the attention of Susan K. Fawcett.

• Mail: Susan K. Fawcett, Records Officer, Office of the Chief Information Officer, United States Patent and Trademark Office, P.O. Box 1450, Alexandria, VA 22313-1450.

Written comments and recommendations for the proposed information collection should be sent on or before September 8, 2010 to Nicholas A. Fraser, OMB Desk Officer, via e-mail at Nicholas_A_Fraser@omb.eop.gov or by fax to 202-395-5167, marked to the attention of Nicholas A. Fraser.

Susan K. Fawcett,
Records Officer, USPTO, Office of the Chief Information Officer.

[FR Doc. 2010-19612 Filed 8-6-10; 8:45 am]

BILLING CODE 3510-16-P